ENVIRONMENTAL PROTECTION AGENCY

[EPA-HQ-OECA-2014-0047; FRL-9923-61-OEI]

Information Collection Request Submitted to OMB for Review and Approval; Comment Request; NSPS for Municipal Solid Waste Landfills (Renewal)

AGENCY: Environmental Protection Agency (EPA).

ACTION: Notice.

SUMMARY: The Environmental Protection Agency has submitted an information collection request (ICR), “NSPS for Municipal Solid Waste Landfills (40 CFR part 60, subpart WWW) (Renewal)” (EPA ICR No. 1557.09, OMB Control No. 2060-0220) to the Office of Management and Budget (OMB) for review and approval in accordance with the Paperwork Reduction Act (44 U.S.C. 3501 et seq.). This is a proposed extension of the ICR, which is currently approved through February 28, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 27, 2015.

ADDRESSES: Submit your comments, referencing Docket ID Number EPA-HQ-OECA-2014-0047, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: These regulations apply to MSW landfills for which construction, modification, or reconstruction commences on or after May 30, 1991. A MSW landfill is an entire disposal facility in a contiguous geographical space where household waste is placed in or on. An MSW landfill may also receive other types of RCRA Subtitle D wastes (§ 257.2 of this title) such as commercial solid waste, nonhazardous sludge, conditionally exempt small quantity generator waste, and industrial solid waste. Portions of an MSW landfill may be separated by access roads. An MSW landfill may be publicly or privately owned, and may be a new landfill, an existing landfill, or a lateral expansion. This information is being collected to assure compliance with 40 CFR part 60, subpart WWW.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS. Any owner/operator subject to the provisions of this part shall maintain a file of these measurements, and retain the file for at least five years following the date of such measurements, maintenance reports, and records.

Form Numbers: None.

Respondents/affected entities: Owners or operators of municipal solid waste landfills for which construction, modification, or reconstruction commences on or after May 30, 1991.

Respondent's obligation to respond: Mandatory (40 CFR part 60, subpart WWW).

Estimated number of respondents: 195 (total).

Frequency of response: Initially, occasionally, quarterly and annually.

Total estimated burden: 111,471 hours (per year). Burden is defined at 5 CFR 1320.3(b).

Total estimated cost: $11,677,667 (per year), includes $764,400 annualized capital or operation & maintenance costs.

Changes in the Estimates: There is an adjustment increase in the total estimated burden as currently identified in the OMB Inventory of Approved ICR Burdens. The change resulted from incorporating comments received, addressing respondent activities that were not included in the previous ICR and increased the burden estimate for activities that were already included.

There is also an increase in the total estimated Capital/Startup and O&M costs. This increase occurred as a result of incorporating comments received, which stated that the previous ICR did not include the purchase price and O&M costs of three additional devices that respondents are required to use.

Courtney Kerwin,
Acting Director, Collection Strategies Division.

[FR Doc. 2015-03867 Filed 2-24-15; 8:45 am]

BILLING CODE 6560-50-P